DEPARTMENT OF LABOR

Employment and Training Administration

[TA-W-40,069]

Westvaco Corporation, Tyrone, PA, Notice of Negative Determination Regarding Application for Reconsideration

By application of January 22, 2001, the Paper Allied-Industrial Chemical & Energy Workers International Union (PACE), requested administrative reconsideration of the Department's negative determination regarding eligibility for workers and former workers of the subject firm to apply for Trade Adjustment Assistance (TAA). The denial notice was signed on December 5, 2001 and published in the Federal Register on December 26, 2001 (66 FR 66428).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Westvaco Corporation, Tyrone, Pennsylvania engaged in the production of C2S web Offset paper and uncoated envelope paper, was denied because the “contributed importantly” group eligibility requirement of section 222(3) of the Trade Act of 1974, as amended, was not met. The “contributed importantly” test is generally demonstrated through a survey of the workers' firm's customers. The Department conducted a survey of the subject company's major customers regarding their purchases of CS2 Web Offset paper. The survey revealed that none of the customers increased their import purchases of C2S web offset paper, while reducing their purchases from the subject firm during the relevant period. The subject firm did not import this type of paper during the relevant period. The investigation further revealed that the dominant factor leading to the closure of the plant was related to a shift in plant production to two other domestic facilities.

The petitioner alleges that the shift in plant production to two other domestic affiliated locations was to ensure that the production schedules were filled at the other facilities, since there were openings in the production schedule at those locations due to a lack of orders. The petitioner further alleges that a lack of orders resulted from a flood of paper imported from Brazil and South East Asia, resulting in the closure of the subject plant.

As noted above, the Department of Labor normally examines if “contributed importantly” test is met through a survey of the workers' firm's customers. A review of the survey results shows that the customers did not increase their imports of C2S Web Offset paper, while decreasing their purchases form the subject firm during the relevant period. The survey further shows that virtually all lost business was from other domestic sources and therefore imports of C2S Web paper did not contribute importantly to the layoffs at the subject plant. The customers purchasing uncoated envelope paper were not surveyed since there were no major declining customers of this product.

Conclusion

After review of the application and investigative findings, I conclude that there has been no error or misinterpretation of the law or of the facts which would justify reconsideration of the Department of Labor's prior decisions. Accordingly, the application is denied.

Signed at Washington, DC, this 22nd day of March, 2002.
Edward A. Tomchick,
Director, Division of Trade Adjustment Assistance.

[FR Doc. 02-9756 Filed 4-19-02; 8:45 am]

BILLING CODE 4510-30-M